DEPARTMENT OF JUSTICE

Antitrust Division

Notice Pursuant to the National Cooperative Research and Production Act of 1993—IMS Global Learning Consortium, Inc.

Notice is hereby given that, on January 31, 2014, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Smarter Balanced Assessment Consortium, State of WA, fiscal agent, Olympia, WA; and University of Maryland University College, Adelphi, MD, have been added as parties to this venture.

Also, Pearson Embanet (individual member), Orlando, FL; State of NH, Office of Curriculum & Assessment, Concord, NH; and VSCHOOLZ, Inc., Coral Springs, FL, have withdrawn as parties to this venture.

In addition, the following members have changed their corporate names: Sakai Foundation to Apereo Foundation, Ann Arbor, MI; and Global Scholar to Scantron Corporation, Bellevue, WA.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on November 22, 2013. A notice was published in the Federal Register pursuant to Section 6(b) of the Act on December 30, 2013 (78 FR 79498).

Patricia A. Brink,
Director of Civil Enforcement, Antitrust Division.

[FR Doc. 2014-04674 Filed 3-3-14; 8:45 am]

BILLING CODE 4410-11-P